DEPARTMENT OF ENERGY

Office of Energy Efficiency and Renewable Energy

10 CFR Part 430

[Docket No. EE-RM/TP-02-002]

RIN 1904-AB55

Energy Conservation Program for Consumer Products: Test Procedure for Residential Central Air Conditioners and Heat Pumps; Correction

AGENCY: Office of Energy Efficiency and Renewable Energy, Department of Energy.

ACTION: Proposed Rule; technical correction and reopening of comment period.

SUMMARY: A notice of proposed rulemaking (NOPR), to amend the Department of Energy (DOE) test procedures for residential central air conditioners and heat pumps, was published in the Federal Register on July 20, 2006. The Department has identified two errors in that proposed rulemaking and this notice corrects those errors and reopens the comment period.

DATES: DOE will accept comments until November 9, 2006.

FOR FURTHER INFORMATION CONTACT: Michael Raymond, Project Manager, Test Procedures for Residential Central Air Conditioners and Heat Pumps, Docket No. EE-RM/TP-02-002, U.S. Department of Energy, Office of Energy Efficiency and Renewable Energy, Building Technologies Program, EE-2J, 1000 Independence Avenue, SW., Washington, DC 20585-0121, Telephone Number: (202) 586-9611, e-mail: Michael.Raymond@ee.doe.gov;

Francine Pinto, Esq., U.S. Department of Energy, Office of the General Counsel, GC-72, 1000 Independence Avenue, SW., Washington, DC 20585-0121, (202) 586-9507, e-mail: Francine.Pinto@hq.doe.gov

SUPPLEMENTARY INFORMATION:

Background

A notice of proposed rulemaking (NOPR), to amend the DOE test procedures for residential central air conditioners and heat pumps, was published in the Federal Register on July 20, 2006. (71 FR 41320) DOE has become aware that two corrections need to be made:

(1) An amendment to section 3.1.4.1.1 of the regulatory language of the test procedure, which was omitted in the NOPR. The NOPR amendments to section 3.1.4.1.1 of the test procedure in Appendix M include only a change to the title and to Table 2. In addition, the introductory text and paragraph (a) of section 3.1.4.1.1 are revised, as set forth below; and

(2) An amendment to section 3.1.4.4.3 of the regulatory language of the test procedure, which was omitted in the NOPR. Discussion of these changes was included in the preamble to the July 20, 2006, NOPR.

The comment period originally was scheduled to end on September 18, 2006. The Department will accept comments for 30 days following publication of this notice. The extension was announced at the August 23, 2006, public meeting.

Corrections: In FR Doc. 06-6320 appearing on page 41319 in the Federal Register dated July 20, 2006, the following corrections are made:

1. On page 41338, first column, in Part 430, Energy Conservation Program for Consumer Products, Appendix M, amendatory instruction 5.c.2 is corrected to read as follows:

“Section 3.1.4.1.1 title, introductory text, paragraph (a) and Table 2 to paragraph (c) is revised to read as set forth below.”

2. On page 41338, first column, in Part 430, Energy Conservation Program for Consumer Products, Appendix M, a new amendatory instruction 5.c.3 is added and the remaining amendatory instructions for 5.c are renumbered accordingly. The new instruction reads as follows:

“Section 3.1.4.4.3 is revised to read as set forth below.”

The revisions and additions read as follows:

Appendix M [Corrected]

3. Testing Procedures

* * * * *

3.1.4.1.1 Cooling Full-Load Air Volume Rate for Ducted Units.

The manufacturer must specify the Cooling Full-load Air Volume Rate. Use this value as long as the following two requirements are satisfied. First, when conducting the A or A2 Test (exclusively), the measured air volume rate, when divided by the measured indoor air-side total cooling capacity must not exceed 37.5 cubic feet per minute of standard air (scfm) per 1000 Btu/h. If this ratio is exceeded, reduce the air volume rate until this ratio is equaled. Use this reduced air volume rate for all tests that call for using the Cooling Full-load Air Volume Rate. The second requirement is as follows:

a. For ducted units that are tested with a fixed-speed, multi-speed, or variable-speed variable-air-volume-rate indoor fan installed. The second requirement applies exclusively to the A or A2 Test and is met as follows.

1. Achieve the Cooling Full-load Air Volume Rate, determined in accordance with the previous paragraph;

2. Measure the external static pressure;

3. If this pressure is equal to or greater than the applicable minimum external static pressure cited in Table 2, the second requirement is satisfied. Use the current air volume rate for all tests that require the Cooling Full-load Air Volume Rate.

4. If the Table 2 minimum is not equaled or exceeded,

4a. Reduce the air volume rate until the applicable Table 2 minimum is equaled or

4b. Until the measured air volume rate equals 95 percent of the air volume rate from step #1, whichever occurs first.

5. If the conditions of step #4a occur first, the second requirement is satisfied. Use the step #4a reduced air volume rate for all tests that require the Cooling Full-load Air Volume Rate.

6. If the conditions of step #4b occur first, make an incremental change to the set-up of the indoor fan (e.g., next highest fan motor pin setting, next highest fan motor speed) and repeat the evaluation process beginning at above step #1. If the indoor fan set-up cannot be further changed, reduce the air volume rate until the applicable Table 2 minimum is equaled. Use the reduced air volume rate for all tests that require the Cooling Full-load Air Volume Rate.

* * * * *

c. * * *

Table 2. * * *

* * * * *

3.1.4.4.3 Ducted heating-only heat pumps. The manufacturer must specify the Heating Full-load Air Volume Rate. Use this value when the following two requirements are satisfied. First, when conducting the H1 and H12 Test (exclusively), the measured air volume rate, when divided by the measured indoor air-side total heating capacity, must not exceed 37.5 cubic feet per minute of standard air (scfm) per 1000 Btu/h. If this ratio is exceeded, reduce the air volume rate until this ratio is equaled. Use this reduced air volume rate for all tests of heating-only heat pumps that call for the Heating Full-load Air Volume Rate. The second requirement is as follows:

a. For heating-only heat pumps that are tested with a fixed-speed, multi-speed, or variable-speed variable-air-volume-rate indoor fan installed. The second requirement applies exclusively to the H1 or H12 Test and is met as follows.

1. Achieve the Heating Full-load Air Volume Rate, determined in accordance with the paragraph a. of this section;

2. Measure the external static pressure;

3. If this pressure is equal to or greater than the Table 2 minimum external static pressure that applies given the heating-only heat pump's rated heating capacity, the second requirement is satisfied. Use the current air volume rate for all tests that require the Heating Full-load Air Volume Rate.

4. If the Table 2 minimum is not equaled or exceeded,

4a. Reduce the air volume rate until the applicable Table 2 minimum is equaled or

4b. Until the measured air volume rate equals 95 percent of the air volume rate from step #1, whichever occurs first.

5. If the conditions of step #4a occurs first, the second requirement is satisfied. Use the step #4a reduced air volume rate for all tests that require the Heating Full-load Air Volume Rate.

6. If the conditions of step #4b occur first, make an incremental change to the set-up of the indoor fan (e.g., next highest fan motor pin setting, next highest fan motor speed) and repeat the evaluation process beginning at above step #1. If the indoor fan set-up cannot be further changed, reduce the air volume rate until the applicable Table 2 minimum is equaled. Use the reduced air volume rate for all tests that require the Heating Full-load Air Volume Rate.

* * * * *

Issued in Washington, DC, on September 29, 2006.
Alexander A. Karsner,
Assistant Secretary, Energy Efficiency and Renewable Energy.

[FR Doc. E6-16648 Filed 10-6-06; 8:45 am]

BILLING CODE 6450-01-P